DEPARTMENT OF ENERGY

Federal Energy Regulatory Commission

[Docket No. ER06-963-001]

Central Maine Power Company; Notice of Amendment To Filing

June 21, 2006.

On June 8, 2006, Central Maine Power filed an answer to a protest providing additional information in support of its request recover Regional Transmission Organization formation costs in its transmission rates. This additional information constitutes an amendment to Central Maine Power's pending filing in Docket No. ER06-963-000.

Comment Due Date: 5 p.m. Eastern Time, June 30, 2006.

Magalie R. Salas,
Secretary.

[FR Doc. E6-10486 Filed 7-5-06; 8:45 am]

BILLING CODE 6717-01-P